DEPARTMENT OF HEALTH AND HUMAN SERVICES

Centers for Medicare & Medicaid Services

42 CFR Parts 412 and 424

[CMS-1306-CN2]

RIN 0938-AN82

Medicare Program; Inpatient Psychiatric Facilities Prospective Payment System Update for Rate Year Beginning July 1, 2006 (RY 2007) Final Rule; Correction

AGENCY: Centers for Medicare & Medicaid Services (CMS), HHS.

ACTION: Correction of final rule.

SUMMARY: This document corrects errors in the final rule that appeared in the May 9, 2006 Federal Register entitled “Inpatient Psychiatric Facilities Prospective Payment System Update for Rate Year Beginning July 1, 2006 (RY 2007).”

DATES: Effective July 1, 2006.

FOR FURTHER INFORMATION CONTACT: Dorothy Colbert, (410) 786-4533. Matthew Quarrick, (410) 786-9867.

SUPPLEMENTARY INFORMATION:

I. Background

FR Doc. 06-4202 (71 FR 27040) (hereinafter referred to as the RY 2007 final rule), includes errors that are identified and corrected in the “Correction of Errors” section below. The correction of errors identified in this correction notice do not change any policies contained in the RY 2007 final rule. Rather, the corrections merely conform the regulations text and preamble to the final policies. The provisions of this correction notice are effective as if they had been included in the final rule. Accordingly, the corrections are effective July 1, 2006.

II. Summary of Errors

In the RY 2007 final rule, we made several typographical errors including: Referencing FY instead of RY, IRF instead of IPF, and provided the incorrect cross reference for § 424.14(c)(iii) instead of § 424.14(c)(3). In the response to the comments section, we incorrectly stated that “IPFs that did not train interns and residents during the time period of the IPF's most recent cost report filed before November 15, 2005 would receive an FTE cap of zero.” The correct date that should be referenced is November 15, 2004, as stated in the regulations text at § 412.402 (definition for “new graduate medical education” program).

We are revising the regulations text for § 424.14, Requirements for inpatient services of inpatient psychiatric facilities, in order to be consistent with the policies we finalized in the preamble but mistakenly neglected to include in the final draft. First, we are revising § 424.14 to indicate that the patient continues to need, on a daily basis, active treatment furnished directly by or requiring the supervision of inpatient psychiatric facility personnel. Secondly, we are removing the phrase “or other professional services that can only be provided on an inpatient basis”.

In Addendum B, we are correcting the RY 2007 CBSA based wage index for the SSA State/County Code for 11680 and 11691 to read 0.9198 instead of 0.91981. In Addendum C, Table 1, we displayed the wage index tables by CBSA. We are clarifying that these are the final wage index values for RY 2007 effective July 1, 2006, and not the proposed values as indicated by the titles of the tables. We also inadvertently omitted two counties from a CBSA in Addendum C, Table 1.

In addition, in the Provisions of the Final Rule, we inadvertently did not indicate that we were making revisions to § 424.14. However, we addressed these changes in the preamble and included them in the regulations text of the RY 2007 final rule.

III. Correction of Errors

A. Preamble Corrections

In the RY 2007 final rule, make the following corrections:

1. On page 27064, in column 1, at the end of the second full paragraph, line 2 from the bottom, “FY” is corrected to read “RY”.

2. On page 27068, in column 3, in the second full paragraph, in line 16, add a close parenthesis after § 412.624(e)(4).

3. On page 27069, in column 3, in the second response, in line 5, “November 15, 2005” is corrected to read “November 15, 2004.”

4. On page 27074, in column 1, in paragraph 4, in line 2 from the bottom, “IRF PPS payments” is corrected to read “IPF PPS payments.”

5. On page 27077, in column 3—

a. In line 1, “§ 424.14(c)(iii)” is corrected to read § 424.14(c)(3).

b. In lines 2 and 3 from the top, remove the words “the physician will also recertify that.”

Correction of Provisions of the Final Rule

1. On page 27080, in column 3—

a. After the “ECT policy Payment” section but before the “Section 412.402 Definition” section, insert the following:

Section 424.14 Requirements for inpatient services of inpatient psychiatric facilities

In § 424.14, we are finalizing the title from “Requirements for inpatient services of psychiatric hospitals” to “Requirements for inpatient services of inpatient psychiatric facilities.”

We are finalizing that, for the purposes of payment under the IPF PPS, we are requiring that all IPFs (distinct part psychiatric units of acute care hospitals and CAHs and psychiatric hospitals) follow the physician certification and recertification requirements as specified in § 424.14.

We are finalizing the modification to § 424.14(d)(2) to require the first recertification as of the 12th day of hospitalization. Subsequent recertifications will be required at intervals established by the hospital's UR committee (on a case-by-case basis if desired), but no less frequently than every 30 days.

We are finalizing the content requirement of physician certifications at § 424.14(c)(3) by adding the following language: “the patient continues to need, on a daily basis, active treatment furnished directly by or requiring the supervision of inpatient psychiatric facility personnel.”

b. Move “Section 412.402 Definition” section after “Section 412.27 Excluded psychiatric units: Additional requirements” and before “Section 412.428 Publication of updates to the inpatient psychiatric facilities prospective payment system.”

B. Corrections to the Regulations Text

Accordingly, 42 CFR chapter IV is corrected by making the following correcting amendments to part 424:

PART 424—[CORRECTED]

1. The authority citation for part 424 continues to read as follows:

Authority: Secs. 1102 and 1871 of the Social Security Act (42 U.S.C. 1302 and 1395hh).

§ 424.14 [Corrected]

2. In § 424.14 paragraph (c)(3), in lines 2 and 3, “inpatient psychiatric care” should be corrected to “treatment”.

3. In § 412.14 paragraph (c)(3), in lines 3 and 5, remove the parentheses.

4. In § 412.14 paragraph (c)(3), in lines 5 through 7, remove the words, “or other professional services that can only be provided on an inpatient basis”.

C. Corrections of Addenda

Addendum B

1. On page 27095, in column 8 for 2006 CBSA-based wage index, in lines 23 and 25 from the bottom, the entries (with the subscript) “0.91981” are corrected to read “0.9198.”

Addendum C

1. On page 27134 through 27156, Table 1, the title “Proposed Wage Index For Urban Areas Based On CBSA Labor Market Areas” is corrected to read “Wage Index For Urban Areas Based On CBSA Labor Market Areas.”

2. On page 27152, Table 1, second column, for CBSA 42644, 11 lines from the bottom, insert “King County, WA” and “Snohomish County, WA” underneath the heading “Seattle-Bellevue-Everett, WA”.

3. On page 27156, Table 2, the title “Proposed Wage Index Based On CBSA Labor Market Areas For Rural Areas” is corrected to read “Wage Index Based On CBSA Labor Market Areas For Rural Areas.”

IV. Waiver of Proposed Rulemaking and Waiver of 30-Day Delay in the Effective Date

We ordinarily publish a notice of proposed rulemaking in the Federal Register to provide a period for public comment before the provisions of a rule take effect in accordance with section 553(b) of the Administrative Procedure Act (APA) (5 U.S.C. 553(b)). However, we can waive the notice and comment procedures if the Secretary finds, for good cause, that the notice and comment process is impracticable, unnecessary or contrary to the public interest, and incorporates a statement of the finding and the reasons therefore in the notice.

The policies and payment methodology expressed in the RY 2007 final rule have previously been subjected to notice and comment procedures. This correction notice makes changes to conform the regulation text to the policies described in the preamble of the RY 2007 final rule. This correction notice also revises the preamble of the RY 2007 final rule to make clarifications, correct references, and correct typographical errors. This correction notice does not make substantive changes to the policies or payment methodologies that were adopted in the RY 2007 final rule. This correction notice is intended to ensure that the RY 2007 final rule accurately reflects the policies adopted in the final rule. Therefore, we find it unnecessary to undertake further notice and comment procedures with respect to this correction notice.

We are also waiving the 30-day delay in effective date for this correction notice. We ordinarily provide a 30-day delay in the effective date of the provisions of a notice. Section 553(d) of the Administrative Procedure Act ordinarily requires a 30-day delay in the effective date of final rules after the date of their publication in the Federal Register. This 30-day delay in effective date can be waived, however, if an agency finds for good cause that the delay is impracticable, unnecessary, or contrary to the public interest, and the agency incorporates a statement of the findings and its reasons in the rule issued. We believe that it is in the public interest to ensure that the RY 2007 final rule accurately represents our prospective payment methodology and payment rates and that a delay in the effective date of these corrections would be contrary to the public interest. In addition, as the corrections made in this document are not substantive in nature, we also believe it is unnecessary to delay the effective date to make such corrections.

(Catalog of Federal Domestic Assistance Program No. 93.773, Medicare—Hospital Insurance; and Program No. 93.774, Medicare—Supplementary Medical Insurance Program)

Dated: June 27, 2006.
Ann C. Agnew,
Executive Secretary to the Department.

[FR Doc. E6-10277 Filed 6-29-06; 8:45 am]

BILLING CODE 4120-01-P